DEPARTMENT OF ENERGY

Federal Energy Regulatory Commission

[Docket Nos. EC06-45-000, et al.]

Berkshire Hathaway, Inc. et al.; Electric Rate and Corporate Filings

January 13, 2006.

The following filings have been made with the Commission. The filings are listed in ascending order within each docket classification.

1. Berkshire Hathaway Inc.and MidAmerican Energy Holdings Company

[Docket No. EC06-45-000]

Take notice that on December 27, 2005, Berkshire Hathaway Inc. and MidAmerican Energy Holdings Company (collectively, Applicants) tender for filing a notice of their withdrawal of their application under section 203 of the Federal Power Act submitted on December 21, 2005.

Comment Date: 5 p.m. Eastern Time on January 23, 2006.

2. PJM Interconnection, LLC

[Docket No. EL02-23-010]

Take notice that on December 30, 2005, PJM Interconnection, LLC tendered for filing in compliance with Commission's Order of May 18, 2005, an information filing concerning operating of the “Protocols” adopted by the Commission in this proceeding.

Comment Date: 5 p.m. Eastern Time on January 20, 2006.

3. Consolidated Edison Company of New York, Inc.

[Docket No. EL02-23-01]

Take notice that on December 30, 2005, Consolidated Edison Company of New York, Inc. tendered for filing in compliance with Commission's Order of May 18, 2005, an information filing concerning operating of the “Protocols” adopted by the Commission in this proceeding.

Comment Date: 5 p.m. Eastern Time on January 20, 2006.

4. United Illuminating Company

[Docket no. ER03-31-009]

Take notice that on January 4, 2006, the United Illuminating Company tendered for filing an Interconnection Agreement By and Between the United Illuminating Company and Cross-Sound Cable Company, LLC in compliance with Commission Order issued December 5, 2005.

Comment Date: 5 p.m. Eastern Time on January 25, 2006.

5. Midwest Independent Transmission System Operator, Inc.

[Docket No. ER06-435-001]

Take notice that on January 6, 2006, the Midwest Independent Transmission System Operator, Inc. tendered for filing a supplement to its December 30, 2005 filing of Large Generator Interconnection Agreement.

Comment Date: 5 p.m. Eastern Time on January 27, 2006.

6. Xcel Energy Operating Companies

[Docket No. ER06-468-000]

Take notice that on January 6, 2006, Xcel Energy Services Inc. (XSE) tendered for filing Joint Open Access Transmission Tariff, First Revised Volume No. 1, Second Revised Sheet No. 154; Second Revised Sheet No. 297 thru 300; and Second Revised Sheet No. 309. XSE states that these tariff sheets are being submitted on behalf of its utility operating companies.

Comment Date: 5 p.m. Eastern Time on January 27, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E6-689 Filed 1-20-06; 8:45 am]

BILLING CODE 6717-01-P